SMALL BUSINESS ADMINISTRATION

[Declaration of Disaster #P020]

State of South Carolina (Amendment #1)

In accordance with a notice received from the Department of Homeland Security—Federal Emergency Management Agency, effective March 10, 2004, the above numbered declaration is hereby amended to include Cherokee, Chester, Darlington, Dillon, Fairfield, Lee, Oconee, Saluda and Union Counties for Public Assistance in the State of South Carolina as disaster areas due to damages caused by a severe ice storm occurring on January 26, 2004 and continuing through January 30, 2004.

All other information remains the same, i.e., the deadline for filing applications for physical damage is April 13, 2004.

(Catalog of Federal Domestic Assistance Program No. 59008)

Dated: March 16, 2004.
Herbert L. Mitchell,
Associate Administrator for Disaster Assistance.

[FR Doc. 04-6337 Filed 3-19-04; 8:45 am]

BILLING CODE 8025-01-P